DEPARTMENT OF HEALTH AND HUMAN SERVICES

Centers for Disease Control and Prevention

[Program Announcement 04012]

HIV Prevention Projects; Notice of Availability of Funds

Application Deadline: October 6, 2003.

A. Authority and Catalog of Federal Domestic Assistance Number

This program is authorized under sections 301(a) and 317 (k)(2) of the Public Health Service Act, 42 U.S.C. 241 and 42 U.S.C. section 247b(k)(2), 45 CFR part 92. The Catalog of Federal Domestic Assistance number is 93.943.

B. Purpose

The Centers for Disease Control and Prevention (CDC) announces the availability of fiscal year (FY) 2004 funds for cooperative agreement programs for HIV prevention. This program addresses the “Healthy People 2010” priority area of HIV infection and the goals of CDC's HIV Prevention Strategic Plan Through 2005.

The overall goal of the strategic plan is to reduce the number of new HIV infections in the United States from an estimated 40,000 to 20,000 per year, focusing particularly on reducing the disproportionate impact of HIV infection in racial, ethnic minority populations.

The majority of transmission of HIV is by persons unaware of their infection; one quarter of the people in the United States who are infected with HIV do not yet know they are infected. Knowing their HIV status would allow these people to receive the benefits of improved treatment and care, as well as ongoing prevention services that can prevent infection of others.

CDC is refocusing some HIV prevention activities to reduce the number of new HIV infections in the United States (Advancing HIV Prevention: New Strategies for a Changing Epidemic—United States, MMWR 2003; 52(15): 329-332). CDC is doing so by putting more emphasis on counseling, testing, and referral for the estimated 180,000 to 280,000 persons who are unaware of their HIV infection; partner notification, including partner counseling and referral services; and prevention services for persons living with HIV to help prevent further transmission once they are diagnosed with HIV. In addition, since perinatal HIV transmission can be prevented, CDC is strengthening efforts to promote routine, universal HIV screening as a part of prenatal care. All of this will be accomplished through four strategies: (1) Making HIV screening a routine part of medical care; (2) creating new models for diagnosing HIV infection, including the use of rapid testing; (3) improving and expanding prevention services for people living with HIV; and, (4) further decreasing perinatal HIV transmission.

Performance Goals

The goals of this program are to assist public health departments to decrease transmission of HIV by:

1. Decreasing the number of persons at high risk for acquiring or transmitting HIV infection by delivering targeted, sustained, and evidence-based HIV prevention interventions, including prevention of perinatal HIV transmission.

2. Increasing, through voluntary counseling and testing, the proportion of HIV-infected people who know they are infected, focusing particularly on populations with high rates of undiagnosed HIV infection by incorporating the new HIV rapid test where applicable, by reconfiguring counseling and testing resources to increase the efficiency of such services, by increasing the number of providers who routinely provide HIV screening in health care settings, and by increasing the number of partners who receive partner counseling, testing, and referral services.

3. Increasing the proportion of HIV-infected people who are linked to appropriate prevention, care, and treatment services.

4. Strengthening the capacity of health department and community-based organizations to implement effective HIV prevention programs and to evaluate them.

To ensure quality programs and to measure progress, applicants are required to report on a core set of indicators appropriate for their program activities. Each project area will set their own annual target level of performance for each indicator.

Project areas are accountable for achieving the target levels of performance established in their plans. If a project area fails to achieve their target, CDC will work with the grantee to determine what steps can be taken to improve performance. CDC actions could include technical assistance, placing conditions or restrictions on the award of funds, or with chronic failure to improve, a reduction in funds.

C. Eligible Applicants

Applications may be submitted by health departments of states and their bona fide agents that currently receive CDC HIV prevention funds under Program Announcement 99004 (HIV Prevention Projects). This includes the 50 states, six cities (Chicago, Houston, Los Angeles, New York, Philadelphia, and San Francisco), the District of Columbia, Puerto Rico, and the Virgin Islands. United States Affiliated Pacific Island jurisdictions will be funded under a separate program announcement.

For the five states in which there is a CDC directly funded city (Chicago, Houston, Los Angeles, New York, Philadelphia, and San Francisco), the application must be developed and submitted by a coalition of the state and directly funded city health department(s) to ensure continuity of services. Either the state or directly funded city may submit the application, but only one application may be submitted from California, Illinois, New York, Pennsylvania, and Texas. Proof of formal collaboration between the state and city is required in the application from these jurisdictions.

Eligible recipients for additional HIV Perinatal Transmission Prevention funding must have reported at least 150 cases of perinatally acquired AIDS (cumulative) by December 31, 2001 or have Survey of Childbearing Women seroprevalence rates in 1994 of greater than or equal to 2.0/1000. The following areas meet these criteria: California, Connecticut, Delaware, Florida, Georgia, Illinois, Louisiana, Maryland, Massachusetts, New Jersey, New York, Pennsylvania, Puerto Rico, South Carolina, Texas, and Washington, DC.

Note: Title 2 of the United States Code section 1611 states that an organization described in section 501(c)(4) of the Internal Revenue Code that engages in lobbying activities is not eligible to receive Federal funds constituting an award, grant or loan.

D. Funding

Availability of Funds

Approximately $275,000,000 is available in FY 2004 to fund 59 awards. Award amounts for each project area will be comparable to previous year's funding.

In addition, approximately $6,300,000 is available for those jurisdictions eligible for HIV Perinatal Transmission Prevention project funding. Eligible applicants for perinatal funds should submit a separate budget in addition to the budget for core services.

It is expected that the awards will begin on or about January 1, 2004 and will be made for a 12-month budget period within a five-year project period. Funding estimates may change.

Continuation awards within an approved project period will be made based on satisfactory progress as evidenced by successfully implementing required recipient activities, meeting annual targets for program indicators, and submitting required reports. Continuation awards are subject to the availability of funds.

Direct Assistance

You may request federal personnel, equipment, or supplies as direct assistance, in lieu of a portion of financial assistance.

Use of Funds

Funds may not be used to supplant state or local health department funds available for HIV prevention.

The use of funds should be consistent with the jurisdiction's Comprehensive HIV Prevention Plan.

These funds may not be used to provide direct patient medical care, e.g., ongoing medical management and provision of medications, except for STD treatment related to HIV prevention when approved by CDC.

Carryover funds are available only from the previous budget period. The request and use of carryover funds from the previous year must be consistent with the priorities outlined in the jurisdiction's Comprehensive HIV Prevention Plan. Carryover funds are not available after the end of the project period.

Recipient Financial Participation

Recipient financial participation is not required for this program.

E. Program Requirements

In conducting activities to achieve the purpose of this program announcement, the recipient will be responsible for all the activities under section 1, below. CDC will be responsible for conducting the activities under section 2, below.

1. Recipient Activities

A comprehensive HIV prevention program that includes the following components:

a. HIV prevention community planning;

b. HIV prevention activities;

(1) HIV prevention counseling, testing, and referral services (CTR);

(2) Partner notification, including partner counseling and referral services (hereafter known as PCRS) with strong linkages to prevention and care services;

(3) Prevention for HIV-infected persons;

(4) Health education and risk reduction (HE/RR) activities;

(5) Public information programs; and,

(6) Perinatal transmission prevention

c. Quality assurance;

d. Evaluation of major program activities, interventions, and services, including data collection on interventions and clients served;

e. Capacity-building activities;

f. Sexually Transmitted Disease (STD) prevention activities;

g. Collaboration and coordination with other related programs;

h. Laboratory support; and,

i. HIV/AIDS epidemiologic and behavioral surveillance.

2. CDC Activities

a. Provide consultation and technical assistance (TA) to health departments in all aspects of their comprehensive HIV prevention program, including the community planning process and program evaluation activities;

b. Work with state and local health departments to assess training needs and provide training to managers, supervisors, and staff of CTR, outreach, or other prevention programs, either directly or through its network of TA providers and STD/HIV prevention training centers;

c. Disseminate current information, including best practices, in all areas of HIV prevention; facilitate the adoption and adaptation of effective intervention models through workshops, conferences, and written materials; and provide TA in the development and evaluation of new or innovative prevention models;

d. Develop intervention and program evaluation guidelines and program monitoring systems (including indicators);

e. Facilitate coordination of activities among other CDC programs, health departments, community planning groups, directly-funded community-based organizations (CBOs), national capacity-building assistance (CBA) providers, and with care providers and recipients of Ryan White CARE Act funds; and,

f. Monitor progress in achieving target levels of performance for each core indicator, including those for community planning, and take appropriate steps when target levels of performance are not met.

F. Application Content

The Program Announcement title and number must appear in the application. Follow the instructions and outline for application content in completing your application. Sequentially number all pages in the application and attachments, and include a table of contents reflecting major categories and corresponding page numbers. Submit the original and two copies of the application, unstapled and unbound. Provide only those attachments directly relevant to this application. All materials must be single spaced, printed in unreduced 12-point font, on eight and a half by eleven paper, with at least one margins and printing on one side only.

This section describes program requirements and asks you to describe how you will address the requirements. It also lists core program indicators to measure program success. Program indicators must be objective and quantitative, and must measure the intended outcome of the program's activities. You are required to report on the base-line level for each indicator in your application as well as a one-year interim target and a five-year overall target level of achievement. In subsequent progress reports, you will be required to report on progress in achieving target levels of performance for each core indicator.

1. HIV Prevention Community Planning

a. All recipients must:

(1) Adhere to the HIV Prevention Community Planning Guidance (see Attachment 1) by ensuring that the following goals are achieved:

(a) Goal One—Community planning supports broad-based community participation in HIV prevention planning.

(b) Goal Two—Community planning identifies priority HIV prevention needs (a set of priority target populations and interventions for each identified target population) in each jurisdiction. All jurisdictions are required to prioritize HIV-infected persons as the highest priority population for appropriate prevention services. Uninfected, high-risk populations such as sex or needle-using partners of people living with HIV, should be prioritized based on community needs.

(c) Goal Three—Community Planning ensures that HIV prevention resources target priority populations and interventions set forth in the Comprehensive HIV Prevention Plan.

(2) Ensure that the priorities of the Comprehensive HIV Prevention Plan are reflected in your funding application to CDC.

(3) Ensure that adequate funds are provided to support the responsibilities of the community planning group.

(4) Adhere to the health department roles and responsibilities identified in the Community Planning Guidance.

(5) Collect and report community planning data consistent with the Community Planning Guidance. Health departments are required to report on progress in meeting the target levels of performance for the core indicators of community planning as listed below in F1b(2).

(6) Ensure that the community planning group develops at least one Comprehensive HIV Prevention Plan every five years. This jurisdiction-wide plan should address all HIV prevention activities; the plan should inform decisions about how all HIV prevention funds are to be used, including federal, state, local and, when possible, private resources. These activities include community planning, CTR/PCRS, HE/RR, prevention for people living with HIV, capacity-building, evaluation, and other health department activities conducted under this program. The plan should summarize any regional planning and community planning groups into one summary document.

(a) Ideally, start the new plan as soon as possible to implement the strategies in this announcement and plan through approximately December 2007. A new plan should be written in 2008, which will guide prevention activities during the following five-year funding cycle (January 2009—December 2013).

(b) Update the Comprehensive HIV Prevention Plan annually.

b. In your application:

(1) Report on how performance on each of the three community planning goals will be sustained or improved over the five-year project period of this program announcement.

(2) Specify base-line level and a one-year interim target and a five-year overall target level of performance for the following core indicators: (Refer to HIV Prevention Community Planning Guidance, Monitoring and Evaluation Section of Attachment 1 for data collection tools).

(a) Proportion of populations most at risk, as documented in the epidemiologic profile, that have at least one community planning group (CPG) member that reflects the perspective of each population.

(b) Proportion of key attributes of an HIV prevention planning process that CPG membership agreed have occurred.

(c) Proportion of prevention interventions and supporting activities in the health department CDC funding application specified as a priority in the Comprehensive HIV Prevention Plan.

(d) Proportion of health department-funded prevention interventions and supporting activities that correspond to priorities specified in the Comprehensive HIV Prevention Plan.

(3) Provide, as an attachment:

(a) A copy of the community planning group's letter of concurrence, concurrence with reservations, or nonconcurrence. This letter must describe the method and timeline for the review of this application by the community planning group (CPG). Instances of planning group nonconcurrence will be evaluated on a case-by-case basis. After consultation with the grantee and the CPG, CDC will determine what action is appropriate as outlined in the guidance.

(b) Your new Comprehensive HIV Prevention Plan, or if your jurisdiction has developed a supplementary document that updates and describes refinements or changes to the most recent Comprehensive HIV Prevention Plan, attach only this supplementary document.

2. HIV Prevention Activities

There are two overall HIV prevention program performance indicators. Specify base-line level for the following two overall program measures:

• Number of newly diagnosed HIV infections.

• Number of HIV/AIDS cases 13-24 years of age diagnosed each year.

a. Counseling, Testing, and Referral (CTR) Services

All jurisdictions must provide counseling, testing, and referral services with a focus on diagnosing as many new cases of HIV as possible.

(1) All recipients must:

(a) Provide CTR services. These services must be consistent with the priorities identified in your Comprehensive HIV Prevention Plan and CDC's most current CTR guidelines (CDC Revised Guidelines for HIV Counseling, Testing, and Referral. MMWR 2001,50 (RR-19); 1-58) and should be designed to diagnose as many new HIV infections as possible.

(b) Provide, unless prohibited by law or regulation, opportunities for persons to receive anonymous CTR services.

(c) Ensure that appropriate CTR services are provided in settings most likely to reach persons who are likely to be infected, but unaware of their status. This means that CTR services should be provided in settings with high HIV prevalence, e.g., greater than one percent or the one-year interim target for the jurisdiction (see 2b, below in this section). These services should include use of rapid and other test technologies where applicable.

(e) Ensure the provision of test results, particularly to clients testing positive.

(f) Provide support (e.g., financial, technical assistance, training, coordination) to both health department and non-health department providers to increase the number of persons diagnosed with HIV through strengthening current CTR services or creating new services. Work with departments of corrections in their jurisdictions to encourage and, when appropriate, support routine voluntary HIV screening and referral in correctional facilities. Work with hospitals, health maintenance organizations, and other medical providers to provide routine HIV screening in high prevalence medical settings. Work with community-based organizations to develop or strengthen outreach into their communities to increase the number of HIV infections diagnosed by increasing the number of high-risk persons participating in counseling, testing and referral services.

(h) Collect and report CTR data as will be specified in the new Program Evaluation and Monitoring System (PEMS) (approximately January 2004), including core indicators.

(i) Encourage opportunities to integrate CTR and STD services.

(2) In your application:

(a) Describe your plan to provide CTR services, including:

• How you will improve your efforts to identify newly infected persons;

• How you will improve provision of test results (especially positive results),

• Your plan for providing and tracking the completion of referrals for persons with positive test results;

• How you will work with medical care entities to encourage and support routine HIV screening in high prevalence settings; and,

• How you will support providers of CTR services.

(b) Specify base-line level and a one-year interim target and a five-year overall target level of performance for the following core program indicators:

• Percent of newly identified, confirmed HIV-positive test results among all tests reported by CDC-funded HIV counseling, testing and referral sites.

• Percent of newly identified, confirmed HIV-positive test results returned to clients.

• Percent of facilities reporting a prevalence of new HIV-positive tests equal to or greater than the jurisdiction's target as specified in the first indicator immediately above.

b. Partner Counseling and Referral Services (PCRS)

(1) All recipients must:

(a) Ensure that PCRS is a high priority within the jurisdiction's HIV prevention activities and is so identified in the Comprehensive HIV Prevention Plan. These services must be consistent with the most current PCRS guidelines. The most current guidance is “HIV Partner Counseling and Referral Services Guidance” (December 30, 1998).

(b) Provide PCRS for HIV-infected persons who have been tested either anonymously or confidentially in CDC-funded sites. Ideally, PCRS should be offered to all persons with positive test results, regardless of where they are tested. Make a good faith effort to notify sexual or needle sharing partners. Efforts should be documented. Collaborate with STD programs and non-health department providers, including community-based organizations, to provide PCRS.

(d) Collect and report PCRS data consistent with core data elements as will be specified in PEMS, including core indicators.

(2) In your application:

(a) Describe your plan to provide PCRS, including how you will address provision of PCRS for clients from non-health department settings.

(b) Specify base-line level and a one-year interim target and a five-year overall target level of performance for the following core program indicators:

• Percent of contacts with unknown or negative serostatus who receive an HIV test after PCRS notification.

• Percent of contacts with a newly identified, confirmed HIV-positive test among contacts who are tested.

• Percent of contacts with a known, confirmed HIV-positive test among all contacts.

c. Prevention for HIV-Infected Persons

(1) All recipients must:

(a) Provide prevention services to persons infected with HIV/AIDS as outlined in the Comprehensive HIV Prevention Plan.

(b) Develop a plan to provide financial assistance to CBOs and other HIV prevention providers (including local health departments) and to collaborate with health care providers to provide prevention services such as prevention case management(PCM) and prevention counseling.

(c) Work with primary care clinics in the community that serve persons with or at risk for HIV to integrate HIV prevention services into care and treatment services.

(d) Collect and report data on prevention for HIV-positives, including core indicators, as will be specified in PEMS.

(2) In your application:

(a) Describe your plan to provide prevention services for people living with HIV/AIDS.

(b) Describe your plan to provide financial assistance to CBOs and other HIV prevention providers (including local health departments) and to collaborate with health care providers to provide prevention services such as prevention case management (PCM) and prevention counseling.

(c) Describe how you will encourage primary care clinics to integrate prevention and care services; and,

(d) Specify base-line level and a one-year interim target and a five-year overall target level of performance for the following core program indicators:

• Of those enrolled in PCM, proportion of HIV-infected persons that completed the intended number of sessions for PCM.

• Percent of HIV-infected persons who, after a specified period of participation in PCM, report a reduction in sexual or drug using risk behaviors or maintain protective behaviors with sero-negative partners or with partners of unknown status.

d. Health Education and Risk Reduction Services

(HE/RR)—These include individual, group, community, and structural level interventions as well as PCM and outreach for high risk HIV negative and HIV positive individuals. See glossary for a definition of these services.

(1) All recipients must:

(a) Develop a plan to provide financial assistance to CBOs and other HIV prevention providers (including local health departments) consistent with the prioritized populations and interventions established in the Comprehensive HIV Prevention Plan.

(b) Fund providers who provide services that:

• Show evidence that their services focus on those most at risk of transmitting or acquiring HIV infection, reflecting the priorities established in the Comprehensive HIV Prevention Plan and;

• Are based on scientific theory, or have evidence of demonstrated or probable outcome effectiveness (see CDC's most current Compendium of HIV Prevention Interventions with Evidence of Effectiveness, 1999);

• Are directed by written procedures or protocols;

• Are acceptable to and understood by the target population, i.e., are culturally appropriate.

• Have quality assurance and evaluation procedures in place.

(c) Collect and report data on HE/RR activities including core indicators as will be specified in PEMS.

(2) In your application:

(a) Describe your plan to provide financial assistance to prevention providers. Explain any instances of non-competitive award of CDC funds. Identify existing providers by prioritized populations and interventions that are currently funded. Also prepare a separate list identifying interventions that will be funded.

(b) Specify base-line level and a one-year interim target and a five-year overall target level of performance for the following core program indicators:

• Proportion of persons that completed the intended number of sessions for each of the following interventions: individual level intervention (ILI), group level intervention (GLI), and PCM.

• Proportion of the intended number of the target populations to be reached with any of the following specific interventions (ILI, or GLI, or PCM) who were actually reached.

• The mean number of outreach encounters required to get one person to access any of the following services: CT, STD screening and testing, ILI, GLI or PCM.

e. Public Information Programs

(1) All recipients must:

(a) Develop public information programs based on local needs. CPGs must be involved in this decision, e.g., indicate in the HIV Comprehensive Prevention Plan the need to provide such services.

(b) Collect and report data on public information activities as will be specified in PEMS.

(2) In your application:

Complete this section only if you are requesting program funds to support public information programs. Describe your public information efforts and how they are consistent with your Comprehensive HIV Prevention Plan.

f. Perinatal Transmission Prevention

(1) All recipients must:

(a) Work with all health-care providers to promote routine, universal HIV screening of all of their pregnant patients. The Department of Health and Human Services recommends that all pregnant women in the United States be tested for HIV infection (Revised Recommendations for HIV Screening of Pregnant Women. MMWR. 2001; 50 (RR19); 59-86 and Advancing HIV Prevention: New Strategies for a Changing Epidemic—United States, 2003, MMWR April 18, 2003/52 (15); 329-332 425).

(b) Work with organizations and institutions involved in prenatal and postnatal care for HIV-infected women to ensure that appropriate HIV prevention counseling, testing, and therapies are provided to reduce the risk of perinatal transmission.

(2) All recipients eligible for perinatal transmission prevention funding (see eligibility requirements under “Eligible Applicants” must:

(a) Conduct perinatal HIV prevention activities to achieve routine, universal HIV screening among pregnant women, incorporating the new HIV rapid test where applicable.

(b) Evaluate perinatal HIV prevention programs using the “Perinatal HIV Prevention Programs Evaluation Protocol” in collaboration with CDC staff.

(c) Work with CDC staff and CDC contractors to facilitate the collection of data on prenatal HIV testing rates through a representative sample of maternal medical records, and disseminate findings to local jurisdictions and delivery hospitals.

(d) Work closely with organizations and institutions involved in prenatal and postnatal care for HIV-infected women to ensure that proper HIV prevention counseling, testing and therapies are provided during prenatal care, delivery, and postnatal care.

(3) In your application:

If your project will not receive funding for HIV perinatal prevention:

(a) Describe how you will work with health care providers to promote routine, universal HIV screening to their pregnant patients and how you will work with organizations and institutions involved in prenatal and postnatal care for HIV-infected women to ensure that appropriate HIV prevention counseling, testing, and therapies are provided to reduce the risk of transmission.

(b) Specify base-line level and a one-year interim target and a five-year overall target level of performance for the following core program indicator: Proportion of pregnant women who receive an HIV test during pregnancy.

If your project is eligible for HIV perinatal prevention funding (see page 2):

(a) Describe your current and planned perinatal HIV prevention activities.

(b) Include a budget detailing the planned funding for your targeted perinatal HIV prevention programs; using as the amount per year the perinatal funding your jurisdiction has received for targeted perinatal HIV prevention programs per year since 1999.

(c) For the five states in which there is a CDC directly funded city, provide evidence of formal collaboration between the state and city.

(d) Indicate your willingness to work with CDC staff and to utilize a standardized approach to the gathering of HIV screening rates during pregnancy based on medical record data, as well as to carry out evaluations of your planned targeted perinatal HIV prevention activities as detailed in the “Perinatal HIV Prevention Programs Evaluation Protocol.”

(e) Specify base-line level and a one-year interim target and a five-year overall target level of performance for the following core program indicators:

• Proportion of women who receive an HIV test during pregnancy.

• Proportion of HIV-infected pregnant women who receive appropriate interventions to prevent perinatal transmission.

• Proportion of HIV-infected pregnant women whose infants are perinatally infected.

3. Quality Assurance

a. All recipients must:

Develop, implement, and maintain quality assurance plans in the following programmatic areas:

(1) CTR and PCRS—the following refer to both health department and community based programs funded through the health department.

(a) Counseling—Conduct routine, periodic assessments to ensure that the counseling being provided includes the recommended, essential counseling elements (Please reference Attachment 1 for a link to the CDC Revised Guidelines for HIV Counseling, Testing, and Referral. MMWR 2001,50 (RR-19); 1-58). Quality assurance elements may include but are not limited to the following components: training and continuing education; supervisor observation with feedback to counselors; case conferences; counselor or client satisfaction evaluations; or periodic evaluation of space, flow, and time concerns.

(b) HIV Testing—Develop and implement a quality assurance system for all CTR and PCRS providers, with special attention to ensuring that HIV-positive clients learn their test results. Develop and implement a quality assurance system for implementation of HIV rapid testing.

(c) Referral—Develop and implement a mechanism for assessing the proportion of HIV-positive persons referred for additional services who complete their referrals. Review data and improve process as necessary.

(d) PCRS—Develop, implement, and maintain a system to assess the PCRS program and improve its function, e.g., improving the percentage of persons who receive PCRS, the quality of PCRS interview sessions, and the notification of partners.

(2) HE/RR Activities

(a) Develop and implement a mechanism to ensure HE/RR activities are appropriate, understandable and acceptable for the specific populations served.

(b) Develop and maintain a mechanism to ensure the consistency, accuracy, and relevance of information provided to the public through local hotlines and other channels, including information about referral services.

(c) Develop or use existing standard procedures or protocols for interventions implemented by health departments and their contractors.

(d) Actively monitor services and programs provided by funded CBOs and other contractors to assist in identifying training and technical assistance needs and to ensure that interventions are implemented as planned and that program objectives are met.

(e) Use feedback from client satisfaction surveys in assessing the services provided, including prevention services for people living with HIV/AIDS. Other science-based methods of assessing services provided can also be used.

(3) Policies, Procedures, and Training

(a) Develop comprehensive written quality assurance policies and procedures to ensure that all HIV prevention activities are delivered in an appropriate, competent, and sensitive manner.

(b) Make quality assurance policies and procedures available to all program staff (health departments and their contractors).

(c) Deliver training to all staff providing HIV prevention activities, especially those staff providing CTR, PCRS, and HE/RR (health departments and their contractors).

(d) Train all managers (health departments and their contractors) to ensure that quality assurance policies and procedures are followed.

(4) Data Collection—Develop, implement, and maintain a system to assess the quality of data collection.

b. In your application:

Describe your quality assurance efforts regarding CTR, PCRS, HE/RR, data collection, training, procedures, and any other relevant programmatic areas for which you have quality assurance plans.

4. Evaluation

a. All recipients must:

(1) Conduct program evaluation. Follow the requirements specified in PEMS.

(2) Collect and report data for the core indicators for community planning, HIV prevention activities, evaluation, and capacity-building as will be specified in PEMS. For each indicator, provide the information as specified on the indicator reporting form (see all attachments as posted on CDC website).

(3) Develop and implement an annual evaluation plan to be updated each year. The evaluation plan for the first year shall include at a minimum, the following topics:

• Description of how the minimum data requirements for counseling, testing, and referral, financial reporting, community planning, and core indicators will be met;

• Description of current data collected for program evaluation and monitoring and how these data are compatible with (and not in place of) the CDC counseling, testing, and referral reporting system, financial reporting, community planning, and core indicators;

• Current system of data collection and reporting of HIV prevention activities including data system specifications and data management information systems; and,

• Procedures to ensure that data quality and data security are consistent with CDC guidelines.

For subsequent years, develop and implement a comprehensive evaluation plan that includes, at a minimum, the above elements and addresses the following topics:

• Collection of process monitoring data including client-level information;

• Priority prevention activities selected for outcome monitoring and the rationale for their selection; and,

• Plans for entry and transmission of data on CDC's browser-based system or plans to make a local system compatible with CDC's requirements as outlined in the most current evaluation guidance.

(4) Identify the prioritized populations and prevention activities funded under this cooperative agreement.

(5) Collect and report data on the following:

• Community planning related to the goals outlined in the Community Planning Guidance;

• Financial and other service agency characteristics (this includes information previously reported in budget tables);

• HIV prevention services that may be measured through client-level data, including but not limited to ILI, GLI, PCM, CTR, PCRS, and outreach; and,

• Aggregate-level data for interventions including, but not limited to health communication and public information as specified in the most recent evaluation guidance.

(6) Collect and report outcome monitoring and evaluation data for prioritized populations and prevention activities.

(7) Collect and report data on prevention of perinatal transmission.

(8) Collect and report data consistent with the CDC requirements to ensure client confidentiality and security.

(9) Collaborate with CDC in assessing the impact of HIV prevention activities by participating in special projects upon request, e.g., national behavioral surveillance and incidence.

(10) Use either the CDC data system or compatible local systems to report data electronically as specified in the most recent evaluation guidance.

b. In your application:

(1) Provide a copy of your evaluation plan for community planning and process and outcome monitoring and evaluation of HIV prevention activities for the first year.

(2) Provide a description of your local program evaluation and data management system functions and specifications and copies of statewide uniform data reporting forms, if they exist.

(3) Specify base-line level, one-year interim target, and a five-year overall target level of performance for the following core program indicators:

• Proportion of providers reporting representative process monitoring data to the health department in compliance with the CDC program announcement;

• Proportion of providers reporting representative outcome monitoring data to the health department. (Base-line and performance targets are not reported until September 2004).

5. Capacity-Building Activities

a. All recipients must:

(1) Conduct a capacity-building needs assessment in the jurisdiction for the health department, HIV prevention service providers, and other prevention agencies/partners including community-based organizations. This assessment should include the capacity to provide outreach testing, PCRS, and prevention for people living with HIV. This requirement can be waived if you can show that you have completed a capacity building needs assessment within the last year, including an assessment of capacity to provide outreach testing, PCRS, and prevention for HIV-positive individuals.

(2) Develop a comprehensive capacity building plan based on the assessment.

(3) Provide capacity-building assistance, based on the capacity building needs assessment, to HIV prevention service providers, and other prevention agencies and partners. Create linkages with national capacity-building assistance providers (CBAs), where necessary and appropriate. Capacity-building assistance may include, but should not be limited to:

(a) Strengthening organizational infrastructure, including financial management and compliance with grant or contract requirements;

(b) Enhancing the design, implementation, and evaluation of HIV prevention interventions,

(c) Developing community infrastructure, and

(d) Strengthening HIV prevention community planning.

(4) Provide capacity-building assistance to staff of health department HIV prevention programs and other staff, e.g., counseling and testing programs.

(5) Provide capacity building assistance to CBOs to provide outreach testing and PCRS, including the use of rapid tests.

(6) Improve the capacity of medical providers to provide routine HIV testing, including the use of rapid HIV tests.

(7) Provide capacity-building assistance to design, implement, and sustain prevention interventions for persons living with HIV/AIDS and other prioritized target populations.

(8) Collect and report data on capacity-building activities, including core indicators as will be specified in PEMS.

b. In your application:

(1) Describe your capacity-building activities in the areas listed above. Include the plan if already developed.

(2) Discuss your plans to strengthen your capacity-building activities over the five-year project period for this program announcement.

(3) Discuss how you will assess (for the first time, as well as update) capacity-building needs throughout the project period.

(4) Specify base-line level and a one-year interim target and a five-year overall target level of performance for the following indicator: Proportion of funded providers who have received health department supported capacity building assistance specifically training/workshops in the design, implementation or evaluation of science-based HIV prevention interventions.

6. STD Prevention Activities

a. All recipients must:

(1) Support local efforts to identify persons with STDs that may facilitate the transmission of HIV infection.

(a) STD diagnosis is funded primarily through the STD prevention cooperative agreement. However, HIV prevention funds can be used to augment STD detection services if there is a documented opportunity to enhance HIV prevention efforts, e.g., encourage screening for syphilis in areas experiencing syphilis outbreaks. CPGs must be involved in this decision, e.g., indicate in the Comprehensive HIV Prevention Plan the need to provide such services.

(b) Funds can be used to underwrite the cost of STD treatment when it is intended to specifically reduce HIV trasmission, on a case-by-case basis, upon approval of CDC.

(c) When feasible, counseling and testing sites should offer STD diagnostic services and referrals for STD treatment. This should also be encouraged when HIV testing is offered through outreach activities.

(2) Incorporate STD messages into HIV prevention messages whenever appropriate.

(3) Collaborate with STD programs in providing PCRS.

b. In your application:

Describe your plans to collaborate and coordinate with local STD prevention efforts, particularly as they relate to HIV prevention activities and screening and treatment for STDs.

7. Collaboration and Coordination

a. All recipients must:

Coordinate and collaborate with other agencies, organizations, and providers to strengthen HIV prevention and care activities and minimize duplication of effort in the jurisdiction. Meaningful coordination and collaboration efforts are characterized by joint participatory planning to address common areas of service need; development of recommendations for program planning and implementation; development of relevant policy and/or legislative initiatives; identification of specific steps for furthering collaborative efforts within definite time-frames; and, outcomes that reflect HIV prevention program goals. At a minimum, recipients are expected to coordinate and collaborate with the following:

(1) CDC directly funded CBOs

The Health Department will review the program plan (i.e., proposed target population, intervention, number of persons to be served, and service location) of those CBOs considered for funding by CDC. The health department will review the plans to ensure no duplication of effort, to assess consistency of the proposed target population and intervention(s) with the HIV Prevention Comprehensive Plan, and to rate the past performance with state/city funded programs. Based on this review, the health department will provide a letter of support, support with conditions, or non-support to CDC. In a letter of support, the health department should describe how they will work with the directly funded CBO. The Health Department must also invite the directly funded CBOs to community planning meetings and include them in health department provided training sessions whenever possible or appropriate.

(2) HIV/AIDS Care Programs

To ensure early treatment for HIV-positive individuals, as well as to coordinate the provision of HE/RR for HIV-positive individuals, jurisdictions are encouraged to collaborate with providers and planners of care services for persons living with HIV/AIDS, particularly those funded by the Health Resources and Services Administration (HRSA) through its Ryan White CARE Act programs. These programs include Title I Planning Councils; Title II consortia, Special Projects of National Significance, HIV/AIDS CBOs, and community groups; Title III Early Intervention Services Programs; and, Title IV Programs serving children, youth, women and their families. For a list of currently funded CARE Act Programs and for more information on the Ryan White CARE Act, please go to http://hab.hrsa.gov/.

(3) Other Programs—Collaboration and coordination should also occur with the following:

• Substance abuse prevention and treatment programs, including state and local substance abuse agencies and community-based and other drug treatment or detoxification programs;

• Juvenile and adult criminal justice, correctional, and parole systems and programs;

• American Indian/Alaska Native tribal councils, Tribal community-based organizations, Tribal governments, and Indian Health Service-funded programs. Where appropriate, representatives from American Indian/Alaska Native tribal councils or a local Indian Health Board Member (with support of tribal council) should be involved in community planning. Where appropriate, provide financial support based on priorities established in the Comprehensive HIV Prevention Plan and provide capacity building support for HIV prevention programs.

• Hepatitis prevention programs—Support local efforts to integrate viral hepatitis services into existing public health programs serving persons at risk for multiple infections (including HIV, STDs, and hepatitis A, B, or C).

• When possible, HIV prevention services should include screening for hepatitis viruses (e.g., hepatitis A and B in MSM and hepatitis B and C in injection drug users) and provide or link those needing immunizations for hepatitis A and B to such services. HIV funds may be used for hepatitis testing, but not immunizations against hepatitis A or B. CPGs must be involved in this decision, e.g., indicate in the HIV Comprehensive Prevention Plan the need to provide such services.

• Collaborate with Hepatitis B Coordinators and Hepatitis C Coordinators in your jurisdiction to integrate services where feasible.

• TB clinics and programs;

• State and local mental health departments and community mental heath centers;

• Family planning and women's health agencies and programs, including providers of service to women in high-risk situations;

• State or local education agencies; schools, boards of education, universities and schools of public health.

• Other community groups, businesses, and faith-based organizations.

b. In your application:

Describe your plans to collaborate and coordinate with the programs and groups listed above. Also, describe the intended outcomes of your collaboration and coordination efforts and plan to strengthen these activities over the five-year project period.

8. Laboratory Support

a. All recipients may:

Use program funds to support the cost of HIV testing for specimens obtained via counseling and testing activities, including rapid tests and CD4 and viral load tests. Grantees are encouraged to ensure that testing laboratories provide tests of adequate quality, report findings promptly, and participate in a laboratory performance evaluation program for HIV 1 antibody testing. Grantees are encouraged to include participation of their public health laboratory in efforts to assure laboratory quality, so as to minimize any inaccuracies that may occur during specimen collection, testing, or the reporting of laboratory tests.

b. In your application:

Briefly describe all laboratory support activities funded under this announcement, including participation of any laboratory(s) in a performance evaluation program for HIV antibody testing, and the use of various testing technologies.

9. HIV/AIDS Epidemiologic and Behavioral Surveillance

a. All recipients must:

(1) Respond to the surveillance data needs of prevention program managers and CPGs. The needs include analysis, interpretation, and presentation of surveillance data; preparation of the epidemiologic profiles and other reports for use by the CPGs; and other related activities that directly improve and support the implementation and evaluation of HIV prevention activities. Although the Surveillance Cooperative Agreement provides support to jurisdictions to meet surveillance needs, funds under this announcement may be used to help support unmet HIV/AIDS surveillance activities as described above. CPGs must be involved in the decision-making process. Funds may also be used to address data gaps or unmet state or local needs for supplemental surveillance, HIV incidence surveillance, or behavioral surveillance.

(2) Collaborate with surveillance programs to collect data needed for HIV incidence surveillance efforts.

(3) In areas participating in CDC's National Behavioral Surveillance Program, collaborate with surveillance to assess exposure to, utilization of, and effect of HIV prevention programs.

(4) Collaborate with CDC for surveillance activities.

b. In your application:

Complete this section only if you are requesting program funds to support this activity. Describe any surveillance activities you expect to conduct with support provided through this program announcement.

Additional Information to be Addressed in the Application Content

1. Other Activities

a. All recipients must:

Ensure that appropriate health department and community representatives attend CDC-sponsored meetings, e.g. the annual Community Planning Leadership Summit and mandatory training sessions such as training for rapid testing.

b. In your application:

(1) Budget funds provided through this cooperative agreement for three persons to attend at least three CDC-sponsored three day conferences or meetings each year in Atlanta.

(2) Describe any other planned activities not previously addressed.

2. Summarize Unmet Needs

In your application, summarize any HIV prevention needs that will remain even if the total application is funded. Provide an estimate of funds required to meet these needs.

3. Management and Staffing Plan

a. All recipients must:

Have the staff and infrastructure to implement the components of a comprehensive HIV prevention program for their jurisdiction. Recipients must maintain appropriate staffing to fulfill their responsibility to provide capacity-building, evaluation, and quality assurance; to support the community planning process; to disburse and monitor funds; and to support programs and services provided directly by the health department or through CBOs.

b. In your application:

Describe your management and staffing plan to conduct or support the essential components of your comprehensive HIV prevention program. Please include an organizational chart that reflects the current management structure and a description of the roles, responsibilities and relationships of all staff in the program, regardless of funding source. Identify the positions supported through this cooperative agreement and those funded through other sources, as well as any unfunded staffing needs.

4. Budget Information

In accordance with Form CDC 0.1246E (www.cdc.gov/od/pgo/forms/01246.pdf), provide a line item budget and narrative justification for all requested costs that are consistent with the purpose, objectives, and proposed program activities. Within this budget, please provide the documentation requested for each cost category:

a. Line item breakdown and justification for all personnel, i.e., name, position title, annual salary, percentage of time and effort, and amount requested.

b. Line item breakdown and justification for all contracts, including: (1) Name of contractor, (2) period of performance, (3) method of selection (e.g., competitive or sole source), (4) description of activities, (5) target population and (6) itemized budget.

c. Requests for any new Direct Assistance Federal assignees, include:

(1) Justification for request;

(2) The number of assignees requested;

(3) A description of the position and proposed duties;

(4) The ability or inability to hire locally with financial assistance;

(5) An organizational chart and the name of the intended supervisor;

(6) The availability of career-enhancing training, education, and work experience opportunities for the assignee(s) and;

(7) Assignee access to computer equipment for electronic communication with CDC.

G. Submission and Deadline

Submission Date, Time, and Address

Submit the signed original and two copies of CDC 0.1246. Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

The application must be received by 4 p.m. Eastern time on October 6, 2003. Submit the application to:

Technical Information Management—PA 04012, Procurement and Grants Office, Centers for Disease Control and Prevention, 2920 Brandywine Rd, Room 3000, Atlanta, GA 30341-4146.

Applications may not be submitted electronically.

CDC Acknowledgement of Application Receipt

A postcard will be mailed by PGO-TIM, notifying you that CDC has received your application.

Deadline

Your applications will be considered as meeting the deadline if they are received before 4 p.m. Eastern Time on the deadline date. Applicants sending applications by the United States Postal Service or commercial delivery services must ensure that the carrier will be able to guarantee delivery of the application by the closing date and time. If an application is received after closing due to (1) carrier error (i.e., when the carrier accepted the package with a guarantee for delivery by the closing date and time) or (2) significant weather delays or natural disasters, CDC will consider the application as having been received by the deadline upon receipt of proper documentation.

Applications that do not meet the above criteria may not be funded. Applicants will be notified of their failure to meet the submission requirements.

H. Evaluation Criteria

All applications will be reviewed for technical acceptability.

I. Other Requirements

Technical Reporting Requirements

1. Data reports of agency, financial, and HIV interventions including but not limited to HIV individual and group level; PCM; outreach; health communication/public information; counseling, testing, and referral; partner counseling and referral service; and perinatal (for eligible areas) activities are required 45 days after the end of each quarter or as specified in the most recent evaluation guidance. Project areas may request technical assistance to achieve this. Data should be submitted electronically directly to the Program Evaluation Research Branch. Following this action, please send an electronic notification of your data submission to the Grants Management Specialist listed in the “Where to Obtain Additional Information” section of this announcement.

2. This program requires progress reporting on a semi-annual basis. The first semi-annual progress report (Interim progress report) shall be due on the 15th of July each year through 2009. This report will serve as your non-competing continuation application and must contain the following elements:

a. Current Budget Period Financial Progress.

b. Base-line and target level for core and optional indicators.

c. New budget period proposed program activities.

d. Detailed Line-Item Budget and Justification.

e. Additional Requested Information.

3. The second semi-annual report, and a Financial Status Report (FSR) shall be due April 1st of each year. Specific guidance on what to include in this report will be provided at least three months before the due date. It should include the following:

a. Base-line and actual level of performance on core and optional indicators.

b. Current Budget Period Financial Progress.

c. Additional requested Information.

4. A final FSR and final progress report will be due on April 1, 2009.

5. Submit any newly developed public information resources and materials to the CDC National Prevention Information Network (formerly the AIDS Information Clearinghouse) so that they can be incorporated into the current database for access by other organizations and agencies.

6. Submit any newly developed public information resources and materials to the CDC National Prevention Information Network (formerly the AIDS Information Clearinghouse) so that they can be incorporated into the current database for access by other organizations and agencies.

7. HIV Content Review Guidelines

a. Submit completed Assurance of Compliance with the Requirements for Contents of AIDS-Related Written Materials Form (CDC form—0.1113). This form lists the members of your program review panel. The form is enclosed with your application kit. You can also download this form from the CDC Web site: http://www.cdc.gov/od/pgo/forminfo.htm. Please include this completed form with your application. This form must be signed by the Project Director and authorized business official. In addition, you must certify that your program review panel represents a reasonable cross-section of the community in which the program is based.

b. You must also include documentation of approval by the relevant program review panel of any HIV educational materials that you or your grantees are currently using. Use the enclosed form, Report of Approval. If you have nothing to submit, you must complete the enclosed form “No Report Necessary.” Either the “Report of Approval” or “No Report Necessary” must be included with all progress reports and continuation requests. In addition, using the Report of Approval, you must include a certification that accountable state or local health officials independently review the federally-funded HIV prevention materials for compliance with Section 2500 of the Public Health Service Act and approve the use of such materials in their jurisdiction for directly and indirectly funded organizations.

c. Ensure that a web page notice be used for those grantees whose web sites contain HIV/AIDS educational information subject to the CDC content review guidelines. Contact your project officer for a copy of this guidance.

8. Address your organization's adherence to CDC policies for securing approval for CDC sponsorship of conferences. If you plan to hold a conference, you must send a copy of the agenda to CDC's Grants Management Office.

9. If you plan to use materials using CDC's name, send a copy of the proposed material to CDC's Grants Management Office for approval.

Note: Send all reports (except for the first item) to the Grants Management Specialist identified in the “Where to Obtain Additional Information” section of this announcement.

The following additional requirements may be applicable to this program. For a complete description of each, see Attachment I as posted on CDC Web site.

AR-1 Human Subjects Requirements

Before a grant or a cooperative agreement involving research can be awarded, an institutional committee must certify a review (described in 45 CFR part 46). Continuing review is also required.

AR-2 Requirements for Inclusion of Women and Racial and Ethnic Minorities in Research

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

AR-16 Security Clearance Requirement

AR-20 Conference Support

AR-21 Small, Minority, and Women-Owned Business

AR-22 Research Integrity

J. Where to Obtain Additional Information

For this and other CDC announcements, the necessary applications, and associated forms can be found on the CDC home page, http://www.cdc.gov.

Click on “Funding Opportunities” then “Grants and Cooperative Agreements.”

For general questions about this announcement, contact:

Technical Information Management, Procurement and Grants Office, Center for Disease Control and Prevention, 2920 Brandywine Rd, Atlanta, GA 30341-4146, Telephone: 770-488-2700.

For business management and budget assistance, contact: Carlos Smiley, Grants Management Specialist, Procurement and Grants Office, Center for Disease Control and Prevention, 2920 Brandywine Rd, Atlanta, GA 30341-4146, Telephone: 770-488-2722, E-mail address:anx3@cdc.gov.

For business management and budge assistance in the territories contact: Charlotte Flitcraft, Procurement and Grants Office, Center for Disease Control and Prevention, 2920 Brandywine Rd, Room 3000, Atlanta, GA 30341-4146, Telephone: 770-488-2632, E-mail address: caf5@cdc.gov.

For program technical assistance, contact: Robert N. Kohmescher, Office of the Director, Division of HIV/AIDS Prevention, Centers for Disease Control and Prevention, 1600 Clifton Road, M/S E35, Telephone: (404) 639-1914, E-mail address: rnk1@cdc.gov.

Sandra R. Manning,
CGFM, Director, Procurement and Grants Office, Centers for Disease Control and Prevention.

[FR Doc. 03-17436 Filed 7-9-03; 8:45 am]

BILLING CODE 4163-18-P